DEPARTMENT OF THE INTERIOR

Bureau of Land Management

[OR-050-1020-PG: GP03-0030]

Notice of Public Meeting, John Day/Snake Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) John Day Snake Resource Advisory Council (RAC), will meet as indicated below.

DATES: The meeting will be held December 4, 2002 at the Oxford Inn Suites in Pendleton, OR beginning at 8 a.m. The public comment period will begin at approximately 1 p.m. and the meeting will adjourn at approximately 3 p.m.

SUPPLEMENTARY INFORMATION: The 15-member Council advises the Secretary of the Interior, through the Bureau of Land Management, on a variety of planning and management issues associated with public land management in North East Oregon.

Meeting Topics

The National Resource Advisory Council Conference/National Accomplishment Report

BLM National Mountain Biking Strategy

Blue Mountain Demo Area-Plan Review

Interior Columbia Basin Environmental Management Plan

Forest/BLM Plan Revisions

Hells Canyon/Wallowa Whitman National Forest Comprehensive Plan

Noxious Weeds-Forest Service Environmental Impact Statement and Bureau of Land

Management Vegetation Management

Rehab/Restoration Plans—2002 Fire Season

Sage Grouse Team Charter

Native Plant Plan

Meeting Procedures

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below

FOR FURTHER INFORMATION CONTACT: Virginia Gibbons at (541) 416-6700, Prineville Bureau of Land Management, 3050 NE Third Street, Prineville, OR, 97754.

Dated: November 13, 2002.
A. Barron Bail,
District Manager, Prineville District, Oregon, Bureau of Land Management.

[FR Doc. 02-29525 Filed 11-20-02; 8:45 am]

BILLING CODE 4310-33-M